DEPARTMENT OF HEALTH AND HUMAN SERVICES

Centers for Disease Control and Prevention

[30 Day-10-0573]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Adult and Pediatric HIV/AIDS Confidential Case Reports for National HIV/AIDS Surveillance (OMB No. 0920-0573 Exp. 2/28/2010)—Revision—National Center for HIV/AIDS, Viral Hepatitis, STD, and TB Prevention (NCHHSTP), Centers for Disease Control and Prevention (CDC).

Background and Brief Description

The purpose of HIV/AIDS surveillance data collection is to monitor trends in HIV disease and describe the characteristics of infected persons (e.g., demographics, modes of exposure to HIV, clinical and laboratory markers of HIV disease, manifestations of severe HIV disease, and deaths among persons with HIV/AIDS). HIV/AIDS surveillance data are widely used by scientists, researchers, and public health authorities at all levels to assess the impact of HIV infection on morbidity and mortality, to allocate medical care resources and services and to guide prevention and disease control activities.

CDC in collaboration with health departments in the 50 states, the District of Columbia, and U.S. dependent areas, conducts national surveillance for cases of HIV infection that includes critical data across the spectrum of HIV disease from HIV diagnosis to AIDS, the end-stage disease caused by infection with HIV, and death. In addition, this system provides the essential data to estimate HIV incidence and monitor patterns in variant, atypical, and resistant strains of HIV among infected persons in the United States. Case report data are either abstracted from medical records by health departments or reported from laboratories, physicians, and other care providers to health departments who compile the information and report data to CDC for inclusion in the national database. Since 1993, these data have been maintained and reported through the HIV/AIDS reporting system (HARS) software. In 2010, the new enhanced electronic HIV/AIDS reporting system (eHARS) will be fully deployed. The revisions requested include additional data elements for eHARS that will allow better tracking of documents and flow of previously approved currently collected surveillance data. In addition, we are requesting approval of a revised data collection form for enhanced perinatal surveillance (EPS) including non-substantial changes aimed at improving the format and usability of the EPS form.

The data CDC collects through the national HIV surveillance system provide the sole source of comprehensive, complete national HIV statistics collected in a timely and standardized manner. Continued data collection will benefit the public by providing accurate and reliable information on the extent and distribution of the HIV epidemic in the United States to be used to guide local and national HIV prevention and control efforts and guide distribution of resources for HIV treatment and care. The total estimated annual burden hours are 51,311.

Estimated Annualized Burden Hours

Exhibit 12.A—Estimates of Annualized Burden Hours
Type of respondent | Form name | Number of respondents | Number of responses per respondent | Avg. burden per response (in hours)
Health Departments | Adult HIV/AIDS Case Report | 59 | 1,839 | 20/60
Health Departments | Pediatric HIV/AIDS Case Report | 59 | 8 | 20/60
Health Departments | Case Report Updates | 59 | 97 | 5/60
Health Departments | Incidence | 25 | 2,437 | 10/60
Health Departments | VARHS | 11 | 2,019 | 5/60
Health Departments | EPS | 15 | 167 | 1

Dated: November 20, 2009.
Marilyn S. Radke,
Reports Clearance Officer, Centers for Disease Control and Prevention.

[FR Doc. E9-28487 Filed 11-27-09; 8:45 am]

BILLING CODE 4163-18-P